ENVIRONMENTAL PROTECTION AGENCY

[FRL-9929-87-OA]

Notification of Two Public Teleconferences of the Science Advisory Board Chemical Assessment Advisory Committee Augmented for the Review of EPA's Draft Benzo[a]pyrene Assessment

AGENCY: Environmental Protection Agency (EPA).

ACTION: Notice.

SUMMARY: The Environmental Protection Agency (EPA or Agency) Science Advisory Board (SAB) Staff Office announces two public teleconferences of the SAB Chemical Assessment Advisory Committee Augmented for the Review of the Draft Benzo[a]pyrene Assessment (CAAC-Benzo[a]pyrene Panel) to discuss its draft report concerning EPA's draft Integrated Risk Information System (IRIS) Toxicological Review of Benzo[a]pyrene (September, 2014 External Review Draft).

DATES: The public teleconferences will be held on Friday August 21, 2015 and Wednesday September 2, 2015. The teleconferences will be held from 1:00 p.m. to 5:00 p.m. (Eastern Time) on both days.

ADDRESSES: The public teleconference will be conducted by telephone only.

FOR FURTHER INFORMATION CONTACT: Any member of the public wishing further information concerning the teleconferences may contact Dr. Diana Wong, Designated Federal Officer (DFO), SAB Staff Office, by telephone/voice mail at (202) 564-2049; or via email at wong.diana-M@epa.gov. General information concerning the EPA Science Advisory Board can be found at the EPA SAB Web site at http://www.epa.gov/sab.

SUPPLEMENTARY INFORMATION:

Background: The SAB was established pursuant to the Environmental Research, Development, and Demonstration Authorization Act (ERDAA) codified at 42 U.S.C. 4365, to provide independent scientific and technical advice to the Administrator on the technical basis for Agency positions and regulations. The SAB is a Federal Advisory Committee chartered under the Federal Advisory Committee Act (FACA), 5 U.S.C., App. 2. The SAB will comply with the provisions of FACA and all appropriate SAB Staff Office procedural policies. Pursuant to FACA and EPA policy, notice is hereby given that the SAB CAAC—Benzo[a]pyrene Panel will hold public teleconferences to discuss its draft report regarding the draft IRIS Toxicological Review of Benzo[a]pyrene (September 2014 External Review Draft). The EPA SAB Staff Office augmented the SAB CAAC with subject matter experts to provide advice through the chartered SAB regarding this IRIS assessment.

The SAB CAAC—Benzo[a]pyrene Panel held a public meeting on April 15-17, 2015. The purpose of that meeting was to develop responses to the peer review charge on the agency's draft IRIS Toxicological Review of Benzo[a]pyrene (September 2014 External Review Draft). The purpose of these public teleconferences is for the Panel to discuss its draft report peer reviewing the agency's draft toxicological review. The two public teleconferences will be conducted as one complete meeting, beginning on August 21, 2015 and if necessary, will continue on September 2, 2015.

Availability of Meeting Materials: Additional background on this SAB activity, the teleconference agenda, draft report, and other materials for the teleconferences will be posted on the SAB Web site at http://yosemite.epa.gov/sab/sabproduct.nsf/fedrgstr_activites/IRIS%20BaP?OpenDocument

Procedures for Providing Public Input: Public comment for consideration by EPA's federal advisory committees and panels has a different purpose from public comment provided to EPA program offices. Therefore, the process for submitting comments to a federal advisory committee is different from the process used to submit comments to an EPA program office. Federal advisory committees and panels, including scientific advisory committees, provide independent advice to the EPA. Members of the public can submit relevant comments pertaining to the meeting materials or the group conducting this SAB activity. Input from the public to the SAB will have the most impact if it consists of comments that provide specific scientific or technical information or analysis for SAB committees and panels to consider or if it relates to the clarity or accuracy of the technical information. Members of the public wishing to provide comment should contact the DFO directly.

Oral Statements: In general, individuals or groups requesting an oral presentation on a public teleconference will be limited to three minutes per speaker. Interested parties wishing to provide comments should contact Dr. Diana Wong, DFO (preferably via email), at the contact information noted above, by August 14, 2015 to be placed on the list of public speakers for the teleconference. Written Statements: Written statements for these teleconferences should be received in the SAB Staff Office by the same deadlines given above for requesting oral comments. Written statements should be supplied to the DFO via email. It is the SAB Staff Office general policy to post written comments on the Web page for the advisory meeting or teleconference. Submitters are requested to provide an unsigned version of each document because the SAB Staff Office does not publish documents with signatures on its Web sites. Members of the public should be aware that their personal contact information, if included in any written comments, may be posted to the SAB Web site. Copyrighted material will not be posted without explicit permission of the copyright holder.

Accessibility: For information on access or services for individuals with disabilities, please contact Dr. Diana Wong at (202) 564-2049 or wong.diana-M@epa.gov. To request accommodation of a disability, please contact Dr. Wong preferably at least ten days prior to the teleconferences, to give EPA as much time as possible to process your request.

Dated: June 24, 2015.
Thomas H. Brennan,
Deputy Director, EPA Science Advisory Board Staff Office.

[FR Doc. 2015-16197 Filed 6-30-15; 8:45 am]

BILLING CODE 6560-50-P